DEPARTMENT OF COMMERCE

Census Bureau

Proposed Information Collection; Comment Request; Annual Retail Trade Survey

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995.

DATES: To ensure consideration, written comments must be submitted on or before September 18, 2017.

ADDRESSES: Direct all written comments to Jennifer Jessup, Departmental Paperwork Clearance Officer, Department of Commerce, Room 6616, 14th and Constitution Avenue NW., Washington, DC 20230 (or via the Internet at PRAcomments@doc.gov).

FOR FURTHER INFORMATION CONTACT: Requests for additional information or copies of the information collection instrument(s) and instructions should be directed to Chris Savage, U.S. Census Bureau, Economy Wide-Statistics Division, Room 8K045, 4600 Silver Hill Road, Washington, DC 20233-6500, (301) 763-4834, (or via Email at john.c.savage@census.gov).

SUPPLEMENTARY INFORMATION:

I. Abstract

The Annual Retail Trade Survey (ARTS) covers employer firms with establishments located in the United States and classified in the Retail Trade sector as defined by the 2012 North American Industry Classification System (NAICS).

The Census Bureau selects firms for this survey from the Business Register (BR) using a stratified random sample where strata are defined by industry and annual sales. The BR is the Census Bureau's master business list and contains basic economic information for more than 7.4 million employer business and over 22.5 million non-employer businesses. The BR contains information collected through direct data collections as well as administrative record information from other federal agencies. The Census Bureau updates the ARTS sample quarterly to reflect employer business “births” and “deaths.” The births reflect new employer businesses identified in the Business and Professional Classification Survey; deaths involve deleting firms and subunits of firms identified by their Employer Identification Numbers (EINs) when it is determined they are no longer active.

Through the ARTS survey, the Census Bureau asks firms to provide annual sales, annual e-commerce sales, year-end inventories held inside and outside the United States, sales taxes, total operating expenses, purchases, accounts receivables, and, for selected industries, sales by merchandise line. These data are used to satisfy a variety of public and business needs such as conducting economic market analyses, assessing company performance, and forecasting future demands. The Census Bureau publishes national data from the survey for selected retail trade industries approximately fifteen months after the end of the reference year.

Effective in survey year 2016 (collected in 2017), ARTS no longer includes firms in the accommodation and food services industries. These industries are now part of the Service Annual Survey (SAS). Also effective in survey year 2016, ARTS introduced a new sample and requested that firms provide two years of data in order to link the old and new samples. Linking the samples helps ensure that published estimates continue to be reliable and accurate. In survey year 2017 and subsequent years, ARTS will request only one year of data until a new sample is selected again in five years.

Every five years, in survey years ending in 2 and 7, ARTS requests data on detailed operating expenses from firms. During the survey year 2016 ARTS collection, detailed operating expenses are not collected. The last time ARTS collected detailed operating expenses was in 2013 for the 2012 survey year. The plan is to reinstate these questions in 2018 as part of the 2017 survey year ARTS data collection.

In an effort to reduce burden and meet the changing needs of data users, as of the 2016 survey year the Census Bureau is no longer requesting that department stores provide data regarding sales collected from leased departments.

The ARTS data is only collected electronically using the Census Bureau's secure online reporting instrument (Centurion). This electronic system of reporting is designed to allow respondents easier access, convenience and flexibility. Data is automatically stored and results are available immediately. In rare cases where the company has no access to the Internet, the Census Bureau can arrange for the company to provide data to an analyst via telephone.

II. Method of Collection

The Census Bureau collects this information via the Internet but in rare cases when respondents have no access to the Internet, it is collected by telephone.

III. Data

OMB Control Number: 0607-0013.

Form Number(s): SA44, SA44-A, SA44-C, SA44-D, SA44-E, SA44-N, SA44-S, SA44-T.

Type of Review: Regular submission.

Affected Public: Retail firms located in the United States.

Estimated Number of Respondents: 19,301.

Estimated Time per Response: 201.2 minutes (2017 survey year with additional items collected). 39.1 minutes (2018 and 2019 survey years).

Estimated Total Annual Burden Hours: 64,723 hours (2017 survey year with additional items collected). 12,578 hours (2018 and 2019).

Estimated Total Annual Cost to Public: $0.

Respondent's Obligation: Mandatory.

Legal Authority: Title 13, United States Code, Sections 131 and 182.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Departmental PRA Lead, Office of the Chief Information Officer.

[FR Doc. 2017-15112 Filed 7-18-17; 8:45 am]

BILLING CODE 3510-07-P